DEPARTMENT OF COMMERCE

Submission for OMB Review; Comment Request

The Department of Commerce has submitted to the Office of Management and Budget (OMB) for clearance the following proposal for collection of information under the emergency provisions of the Paperwork Reduction Act (44 U.S.C. Chapter 35).

Agency: National Oceanic and Atmospheric Administration (NOAA).

Title: Scale & Catch Weighing Requirements.

Form Number(s): None.

OMB Approval Number: 0648-0330.

Type of Request: Emergency submission.

Burden Hours: 10,032.

Number of Respondents: 90.

Average Hours Per Response: 45 minutes (for the form applicable to this revision).

Needs and Uses: The NOAA Fisheries, Alaska Region, catch-weighing and catch monitoring procedures were extended to the Bering Sea/Aleutian Islands (BSAI) King and Tanner Crabs. In addition, this information collection is revised to add a new form for automatic hopper scale tests. This collection describes equipment and operational requirements, consisting of: scales used to weigh catch at sea; scales approved by the State of Alaska; observer sampling station; and inshore catch monitoring and control plan.

Affected Public: Business or for-profit organizations; individuals or households.

Frequency: Annually; on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent before May 9, 2005 to David Rostker, OMB Desk Officer, FAX number (202) 395-7285, or David_Rostker@omb.eop.gov.

Dated: April 29, 2005.
Gwellnar Banks,
Management Analyst, Office of the Chief Information Officer.

[FR Doc. 05-8856 Filed 5-3-05; 8:45 am]

BILLING CODE 3510-08-P